DEPARTMENT OF ENERGY

Federal Energy Regulatory Commission

[Project No. 2105-089 California]

Pacific Gas and Electric Company; Notice of Availability of the Final Environmental Impacts Statement for the Upper North Fork Feather River Project

November 10, 2005.

In accordance with the National Environmental Policy Act of 1969 and the Federal Energy Regulatory Commission's (Commission) regulations, 18 CFR part 380 (Order No. 486, 52 FR 47897), the Office of Energy Projects has reviewed the application for license for the Upper North Fork Feather River Project (FERC No. 2105), located on the North Fork Feather River and Butt Creek, in Plumas County, California and has prepared a Final Environmental Impact Statement (final EIS) for the project.

The final EIS contains staff evaluations of the applicant's proposal and the alternatives for relicensing the Upper North Fork Feather River Project. The final EIS documents the views of governmental agencies, non-governmental organizations, affected Indian tribes, the public, the license applicant, and Commission staff.

The final EIS also contains an analysis of Section 18 fishway prescriptions and section 10(j) recommendations that were filed by NOAA Fisheries on March 14, 2005, after issuance of the draft EIS. In addition, the final EIS contains an analysis of potential measures for providing colder water to the Upper North Fork Feather River during the summer. Because these analyses first appear in the final EIS, you are specifically invited to file comments on these three items in this document. Any comments, conclusions, or recommendations that draw upon studies, reports, or other working papers should be supported by appropriate documentation. Your comments will be considered in the Commission's order in this proceeding.

Comments should be filed with Magalie R. Salas, Secretary, Federal Energy Regulatory Commission, 888 First Street, NE., Washington, DC 20426. All comments must be filed by December 19, 2005, and should reference Project No. 2105-089. Comments may be filed electronically via the Internet in lieu of paper. The Commission strongly encourages electronic filings. See 18 CFR 385.2001(a)(1)(iii) and instructions on the Commission's Web site at http://www.ferc.gov under the eLibrary link.

Before the Commission makes a licensing decision, it will take into account all concerns relevant to the public interest. The final EIS will be part of the record from which the Commission will make its decision.

Copies of the final EIS are available for review in the Commission's Public Reference Branch, Room 2A, located at 888 First Street, NE., Washington, DC 20426. The final EIS also may be viewed on the Internet at http://www.ferc.gov under the eLibrary link. Please call (202) 502-8822 for assistance.

You may also register online at ­ http://www.ferc.gov/docs-filing/esubscription.asp to be notified via e-mail of new filings and issuances related to this or other pending projects. For assistance, contact FERC Online Support.

For further information, contact John Mudre at (202) 502-8902 or at john.mudre@ferc.gov.

Magalie R. Salas,
Secretary.

[FR Doc. E5-6425 Filed 11-21-05; 8:45 am]

BILLING CODE 6717-01-P